DEPARTMENT OF HEALTH AND HUMAN SERVICES

National Institutes of Health

Center for Scientific Review; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Cell Biology Integrated Review Group; Nuclear and Cytoplasmic Structure/Function and Dynamics Study Section.

Date: September 28-29, 2015.

Time: 8:00 a.m. to 12:00 p.m.

Agenda: To review and evaluate grant applications.

Place: Hotel Palomar; 2121 P Street NW.; Washington, DC 20037.

Contact Person: David Balasundaram, Ph.D.; Scientific Review Officer; Center for Scientific Review; National Institutes of Health; 6701 Rockledge Drive, Room 5189, MSC 7840; Bethesda, MD 20892; 301-435-1022; balasundaramd@csr.nih.gov.

Name of Committee: Oncology 2—Translational Clinical Integrated Review Group; Drug Discovery and Molecular Pharmacology Study Section.

Date: October 1-2, 2015.

Time: 8:00 a.m. to 5:00 p.m.

Agenda: To review and evaluate grant applications.

Place: Renaissance Arts Hotel; 700 Tchoupitoulas Street; New Orleans, LA 70130.

Contact Person: Jeffrey Smiley, Ph.D.; Scientific Review Officer; Center for Scientific Review; National Institutes of Health; 6701 Rockledge Drive, Room 6194, MSC 7804; Bethesda, MD 20892; 301-594-7945; smileyja@csr.nih.gov.

Name of Committee: Surgical Sciences, Biomedical Imaging and Bioengineering Integrated Review Group; Medical Imaging Study Section.

Date: October 5-6, 2015.

Time: 8:00 a.m. to 5:00 p.m.

Agenda: To review and evaluate grant applications.

Place: Hilton Alexandria Mark Center; 5000 Seminary Road; Alexandria, VA 22311.

Contact Person: Xiang-Ning Li, MD, Ph.D.; Scientific Review Officer; Center for Scientific Review; National Institutes of Health; 6701 Rockledge Drive, Room 5112, MSC 7854; Bethesda, MD 20892; 301-435-1744; lixiang@csr.nih.gov.

Name of Committee: Center for Scientific Review Special Emphasis Panel; PAR13-137: Bioengineering Research.

Date: October 6, 2015.

Time: 8:00 a.m. to 9:00 a.m.

Agenda: To review and evaluate grant applications.

Place: Fairmont Washington DC; 2401 M Street NW.; Washington, DC 20037.

Contact Person: Yvonne Bennett, Ph.D.; Scientific Review Officer; Center for Scientific Review; National Institutes of Health; 6701 Rockledge Drive, Room 5199, MSC 7846; Bethesda, MD 20892; 301-379-3793; bennetty@csr.nih.gov.

Name of Committee: Center for Scientific Review Special Emphasis Panel; Member Conflict: Pain and Chemosensory Mechanisms.

Date: October 6-7, 2015.

Time: 8:00 a.m. to 6:00 p.m.

Agenda: To review and evaluate grant applications.

Place: National Institutes of Health; 6701 Rockledge Drive; Bethesda, MD 20852; (Virtual Meeting).

Contact Person: John Bishop, Ph.D.; Scientific Review Officer; Center for Scientific Review; National Institutes of Health; 6701 Rockledge Drive, Room 5182, MSC 7844; Bethesda, MD 20892; (301) 408-9664; bishopj@csr.nih.gov.

Name of Committee: Center for Scientific Review Special Emphasis Panel; Member Conflict: Alcohol, Neurotoxicology and Drugs.

Date: October 6-7, 2015

Time: 8:00 a.m. to 6:00 p.m.

Agenda: To review and evaluate grant applications

Place: National Institutes of Health; 6701 Rockledge Drive; Bethesda, MD 20892; (Virtual Meeting).

Contact Person: Michael Selmanoff, Ph.D.; Scientific Review Officer; Center for Scientific Review; National Institutes of Health; 6701 Rockledge Drive, Room 5164, MSC 7844; Bethesda, MD 20892; 301-435-1119; selmanom@csr.nih.gov.

Name of Committee: Emerging Technologies and Training Neurosciences Integrated Review Group; Neuroscience and Ophthalmic Imaging Technologies Study Section.

Date: October 6-7, 2015.

Time: 9:00 a.m. to 5:00 p.m.

Agenda: To review and evaluate grant applications.

Place: Fairmont Washington DC; 2401 M Street NW.; Washington, DC 20037.

Contact Person: Yvonne Bennett, Ph.D.; Scientific Review Officer; Center for Scientific Review; National Institutes of Health; 6701 Rockledge Drive, Room 5199, MSC 7846; Bethesda, MD 20892; 301-379-3793; bennetty@csr.nih.gov.

Name of Committee: Center for Scientific Review Special Emphasis Panel; Member Conflict: Clinical and Visual Neurosciences.

Date: October 7, 2015.

Time: 11:00 a.m. to 2:00 p.m.

Agenda: To review and evaluate grant applications.

Place: National Institutes of Health; 6701 Rockledge Drive; Bethesda, MD 20892.

Contact Person: Paula Elyse Schauwecker, Ph.D.; Scientific Review Officer; National Institutes of Health; Center for Scientific Review; 6701 Rockledge Drive, Room 5211; Bethesda, MD 20892; schauweckerpe@csr.nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: August 26, 2015.
David Clary,
Program Analyst, Office of Federal Advisory Committee Policy.

[FR Doc. 2015-21480 Filed 8-28-15; 8:45 am]

BILLING CODE 4140-01-P